DEPARTMENT OF TRANSPORTATION

Federal Highway Administration

Environmental Impact Statement: U.S. 12—Fort Atkinson Area, Jefferson, Rock, and Walworth Counties, WI

AGENCY: Federal Highway Administration (FHWA), Wisconsin Department of Transportation (WisDOT).

ACTION: Notice of intent to prepare an environmental impact statement.

FOR FURTHER INFORMATION, CONTACT:

Mr. Johnny Gerbitz, Field Operations Engineer, Federal Highway Administration, 567 D'Onofrio Drive, 53719-2814, Madison, WI 5 608-829-7511.

Ms. Carol Cutshall, Director, WisDOT Bureau of Environment, 4802 Sheboygan Ave., Room 451, Madison, WI 3707, 608-266-9626.

SUMMARY: The FHWA is issuing this notice to advise the public that an environmental impact statement will be prepared for a proposed highway project in Jefferson, Rock and Walworth Counties, Wisconsin.

SUPPLEMENTARY INFORMATION: The FHWA, in cooperation with the Wisconsin Department of Transportation (WisDOT) is issuing this notice to advise the public that an Environmental Impact Statement (EIS) will be prepared for construction impacts of improvements to U.S. Highway 12 (US 12) in the Fort Atkinson area of Wisconsin. There are currently seven alternatives being considered for the improvements. The project alternatives include: (1) The no build and, (2) improve existing U.S. 12, (3) improve existing County “N” in Rock County and County “S” in Walworth County, (4) improve existing County “N” in Jefferson County and, (5) a near east Fort Atkinson bypass, (6) a near south Fort Atkinson bypass and, (7) a south of Fort Atkinson bypass. The EIS is being prepared in conformance with 40 CFR Part 1500 and the FHWA regulations.

Letters describing the proposed action and soliciting comments will be sent to appropriate Federal, State, and local agencies and to private organization and citizens who have previously expressed or are known to have interest in this proposal. Initial scoping for the project is planned with a formal agency scoping meeting as well as a public information meeting to be scheduled in October 2002. Additional scoping is anticipated through small local group and agency meetings throughout the study process. The draft EIS will be available for public and agency review and comment prior to the public hearing.

To ensure that the full range of issues related to this proposed action are addressed and all significant issues identified, comments and suggestions are invited from all interested parties. Comments or questions concerning this proposed action and the EIS should be directed to one of the addresses provided above.

Federal law prohibits discrimination on the basis of race, color, age, sex, or country of national origin in the implementation of this action. It is also Federal policy that no group of people bears the negative consequences of this action in a disproportionately high and adverse manner without adequate mitigation.

(Catalog of Federal Domestic Assistance Program Number 20.205, Highway Planning and Construction. The regulations implementing Executive Order 12372 regarding intergovernmental consultation on Federal programs and activities apply to this program.)
Issued on: September 12, 2002.
Jaclyn Lawton,
Environmental Programs Engineer, Wisconsin Division.

[FR Doc. 02-23778 Filed 9-18-02; 8:45 am]

BILLING CODE 4910-22-P